DEPARTMENT OF COMMERCE

National Oceanic and Atmospheric Administration

Science Advisory Board

AGENCY: Office of Oceanic and Atmospheric Research, NOAA, DOC.

ACTION: Notice of open meeting.

SUMMARY: The Science Advisory Board (SAB) was established by a Decision Memorandum dated September 25, 1997, and is the only Federal Advisory Committee with responsibility to advise the Under Secretary of Commerce for Oceans and Atmosphere on long and short-range strategies for research, education, and application of science to resource management. SAB activities and advice will provide necessary input to ensure that National Oceanic and Atmospheric Administration (NOAA) science programs are of the highest quality and provide optimal support to resource management.

DATES: The meeting will be held Wednesday, July 19, 2000, from 8 a.m. to 5:30 p.m., Thursday, July 20, 2000, from 8 a.m. to 4:30 p.m., and Friday, July 21, 2000, from 8 a.m. to 3:30 p.m.

ADDRESSES: On July 19 and 21, the meeting will be held at the Westmark Hotel, 813 Noble Street, Fairbanks, AK. On Thursday, July 20, 2000, the meeting will be held at the International Arctic Research Center (IARC), University of Alaska Fairbanks, Fairbanks, AK.

Status: The meeting will be open to public participation with two 30-minute time periods set aside during the meeting for direct verbal comments or questions from the public. The SAB expects that public statements presented at its meetings will not be repetitive of previously submitted verbal or written statements. In general, each individual or group making a verbal presentation will be limited to a total time of five (5) minutes. Written comments (at least 35 copies) should be received in the SAB Executive Director's Office by July 5, 2000, in order to provide sufficient time for SAB review. Written comments received by the SAB Executive Director after July 5 will be distributed to the SAB, but may not be reviewed prior to the meeting date. Approximately thirty (30) seats will be available for the public including five (5) seats reserved for the media. Seats will be available on a first-come first-served basis.

Matters To Be Considered: The meeting will include the following topics: (1) Overview of NOAA's Alaskan, Arctic and Northern Pacific Region Science and Research programs, (2) NOAA's involvement in the National Oceanographic Partnership Program, (3) Discussion of the SAB Report for the next NOAA Administrator, (4) Public Input Session with SAB discussion, (5) Presentation and SAB discussion of the proposal for Lab and Joint Institute Reviews, (6) SAB Sub-Committee and Working Group Reports, (7) SAB debriefing of NOAA response to SAB commendations on Northwest Salmon, (8) Presentations of University of Alaska Fairbanks Cooperative Institute for Arctic Research (CIFAR) major NOAA activities and research programs.

FOR FURTHER INFORMATION CONTACT: Dr. Michael S. Uhart, Executive Director, Science Advisory Board, NOAA, Rm. 11142, 1315 East-West Highway, Silver Spring, Maryland 20910 (Phone: 301-713-9121, Fax: 301-713-3515, E-mail: Michael.Uhart@noaa.gov); or visit the NOAA SAB website at www.sab.noaa.gov.

Dated: June 28, 2000.
Louisa Koch,
Deputy Assistant Administrator, OAR.

[FR Doc. 00-16943 Filed 7-3-00; 8:45 am]

BILLING CODE 3510-08-M